DEPARTMENT OF COMMERCE

National Oceanic and Atmospheric Administration

50 CFR Part 660

[Docket No. 040830250-5109-04; I.D. 081605C]

RIN 0648-AS27

Fisheries Off West Coast States and in the Western Pacific; Pacific Coast Groundfish Fishery; End of the Pacific Whiting Primary Season for the Shore-based Sector and the Resumption of Trip Limits

AGENCY: National Marine Fisheries Service (NMFS), National Oceanic and Atmospheric Administration (NOAA), Commerce.

ACTION: Temporary rule; fishing restrictions; request for comments.

SUMMARY: NMFS announces the end of the 2005 primary season for the Pacific whiting (whiting) shore-based sector at 2100 local time (l.t.) August 18, 2005, because the allocation is projected to be reached. This action is intended to keep the harvest of whiting at the 2005 allocation levels.

DATES: Effective from 2100 l.t. August 18, 2005, until January 1, 2006. Comments will be accepted through September 6, 2005.

ADDRESSES: You may submit comments, identified by I.D. 0081605C, by any of the following methods:

• E-mail: WhitingSBclosure.nwr@noaa.gov. Include I.D. 081605C in the subject line of the message.

• Federal eRulemaking Portal: http://www.regulations.gov. Follow the instructions for submitting comments.

• Fax: 206-526-6736, Attn: Becky Renko.

• Mail: D. Robert Lohn, Administrator, Northwest Region, NMFS, 7600 Sand Point Way NE, Seattle, WA 98115-0070, Attn: Becky Renko.

FOR FURTHER INFORMATION CONTACT: Becky Renko at 206-526-6110.

SUPPLEMENTARY INFORMATION: This action is authorized by regulations implementing the Pacific Coast Groundfish Fishery Management Plan (FMP), which governs the groundfish fishery off Washington, Oregon, and California.

The regulations at 50 CFR 660.323(a) establish separate allocations for the catcher/processor, mothership, and shore-based sectors of the whiting fishery. For 2005, the 232,069 mt commercial harvest guideline for whiting is divided with the catcher/processor sector receiving 78,903 mt (34 percent); the mothership sector receiving 55,696 mt (24 percent); and the shore-based sector receiving 97,469 mt (42 percent).

Regulations at 50 CFR 660.373(b) describe the primary season for each sector. The primary season for the shore-based sector is the period(s) when the large-scale target fishery is conducted, and when “per trip” limits are not in effect. Before and after the primary season, per-trip limits are in effect for whiting.

The best available information on August 16, 2005, indicates that 89,406 mt had been taken through August 14, 2005, and that the 97,469 mt shore-based allocation will be reached by 2100 l.t. August 18, 2005. This Federal Register document announces that the primary season for the shore-based sector ends on August 18, 2005, and a 10,000-lb (4,536 kg) trip limit is imposed as of August 18, 2005. Per-trip limits are for vessels using large or small footrope trawl gear and are intended to accommodate small bait and fresh fish markets, and bycatch in other fisheries. To minimize incidental catch of Chinook salmon by vessels fishing shoreward of the 100 fm (183 m) contour in the Eureka area, at any time during a fishing trip, a limit of 10,000-lb (4,536 kg) of whiting is in effect year-round, except when landings of whiting are prohibited.

NMFS Action

For the reasons stated above, and in accordance with the regulations at 50 CFR 660.323(b)(3), NMFS herein announces:

Effective 2100 l.t. August 18, 2005, no more than 10,000-lb (4,536 kg) of whiting may be taken and retained, possessed or landed by any vessel participating in the shore-based sector of the whiting fishery, unless otherwise announced in the Federal Register. If a vessel fishes shoreward of the 100 fm (183 m) contour in the Eureka area (43° - 40°30′ N. lat.) at any time during a fishing trip, the 10,000-lb (4,536-kg) trip limit applies, as announced in the annual management measures at paragraph IV, B (3)(c)(ii), except when the whiting fishery is closed.

Classification

This action is authorized by the regulations implementing the FMP. The determination to take this action is based on the most recent data available. The Assistant Administrator for fisheries, NMFS, finds good cause to waive the requirement to provide prior notice and opportunity for comment on this action pursuant to 5 U.S.C. 553(b)(B), because providing prior notice and opportunity would be impracticable. It would be impracticable because if this closure were delayed in order to provide notice and comment, the fishery would be expected to greatly exceed the sector allocation. This would either result in the entire whiting optimum yield being exceeded, or in the allocations for the other sectors being reduced. Therefore, good cause also exists to waive the 30-day delay in effectiveness requirement of 5 U.S.C. 553 (d)(3). The aggregate data upon which the determination is based are available for public inspection at the Office of the Regional Administrator (see ADDRESSES) during business hours. This action is taken under the authority of 50 CFR 660.323(b)(3) and is exempt from review under Executive Order 12866.

Authority: 16 U.S.C. 1801 et seq.

Dated: August 16, 2005.
Alan D. Risenhoover,
Acting Director, Office of Sustainable Fisheries, National Marine Fisheries Service.

[FR Doc. 05-16608 Filed 8-17-05; 2:42 pm]

BILLING CODE 3510-22-S